DEPARTMENT OF THE INTERIOR

Bureau of Land Management

[LLNMF02000 L16100000.DP0000 LXSS026G0000]

Notice of Availability of the Proposed Resource Management Plan and Final Environmental Impact Statement for the Taos Field Office, New Mexico

AGENCY: Bureau of Land Management, Interior.

ACTION: Notice of availability.

SUMMARY: In accordance with the National Environmental Policy Act (NEPA) of 1969, as amended, and the Federal Land Policy and Management Act of 1976, as amended, the Bureau of Land Management (BLM) has prepared the Proposed Resource Management Plan/Final Environmental Impact Statement (Proposed RMP/Final EIS) for the Taos Field Office, New Mexico, and by this Notice is announcing its availability.

DATES: The BLM planning regulations state that any person who meets the conditions as described in the regulations may protest the Proposed RMP/Final EIS. A person who meets the conditions must file the protest within 30 days of the date that the Environmental Protection Agency publishes this Notice in the Federal Register.

ADDRESSES: Copies of the Proposed RMP/Final EIS have been sent to affected Federal, Tribal, state, and local government agencies and to other stakeholders. Copies of the Proposed RMP/Final EIS are available for public inspection at the Taos Field Office in Taos, New Mexico, and New Mexico State Office in Santa Fe, New Mexico. Interested persons may also review the Proposed RMP/Final EIS at: http://www.blm.gov/nm/st/en/fo/Taos_Field_Office/taos_rmpr.html. All protests must be in writing and mailed to one of the following addresses:

Regular mail | Overnight mail
BLM Director (210), Attention: Brenda Williams, P.O. Box 71383, Washington, DC 20024-1383 | BLM Director (210), Attention: Brenda Williams, 20 M Street SE., Room 2134LM, Washington, DC 20003.

FOR FURTHER INFORMATION CONTACT: Brad Higdon, Planning and Environmental Coordinator, Taos Field Office, telephone (575) 751-4725; address 226 Cruz Alta Road, Taos, New Mexico 87571; email bhigdon@blm.gov. Persons who use a telecommunications device for the deaf (TDD) may call the Federal Information Relay Service (FIRS) at 1-(800) 877-8339 to contact the above individuals during normal business hours. The FIRS is available 24 hours a day, 7 days a week, to leave a message or question with the above individuals. You will receive a reply during normal business hours.

SUPPLEMENTARY INFORMATION: The Proposed RMP/Final EIS analyzes the environmental consequences of four alternative land use plans under consideration by the BLM for managing approximately 595,100 acres of surface estate and 1.5 million acres of mineral estate administered by the Taos Field Office within Colfax, Harding, Los Alamos, Mora, Rio Arriba, Santa Fe, Taos, San Miguel, and Union Counties in northern New Mexico. This land use plan would replace the 1988 Taos RMP, as amended, and approval thereof is needed to provide updated management decisions regarding land tenure adjustments, land use authorizations, mineral resources, recreation, renewable energy, special designations, transportation and access, visual resources, and other resource uses and considerations. Upon approval, the Proposed RMP/Final EIS will apply only to BLM-administered public lands and Federal mineral estate. The four alternatives analyzed in detail in the Proposed RMP/Final EIS are the No Action Alternative, or a continuation of the existing management decisions; Alternative A, the Proposed RMP, which strives to balance resource uses with protections; Alternative B, which emphasizes resource conservation and protection; and Alternative C, which allows greater opportunity for resource use and development.

The Proposed RMP/Final EIS would establish eleven Areas of Critical Environmental Concern, totaling approximately 407,855 acres, to provide special management for the protection of relevant and important cultural, historic, scenic, and natural resource values. The proposed plan would also apply protective management to approximately 67,032 acres of lands with wilderness characteristics in four different areas. Public lands available for renewable energy development, mineral development, land use authorization, systems of designated travel routes, and other uses would be provided for under the proposed plan, which would delineate and, as necessary, apply limitations on these opportunities. In addition, management parameters and prescriptions would be applied to a variety of natural, cultural, and visual resources, including air and water quality, wildlife habitat, forests and woodlands, and other components of the biological, physical, and cultural environment.

The land use planning process was initiated on May 26, 2006, through a Notice of Intent published in the Federal Register (71 FR 30446). A Notice of Availability of the Draft RMP/Draft EIS was published on June 10, 2010, in the Federal Register (75 FR 32963) to announce a 90-day public review and comment period of the draft document. During that period, the BLM held public open-house meetings in Santa Fe, Española, and Taos to assist the public in their review of the Draft and to solicit their comments. The Draft RMP/EIS was sent to multiple Federal, Tribal, State, and local government agencies and interested parties and was made publicly available for viewing at the Taos Field Office, the New Mexico State Office, and on the Internet. During the comment period, the Taos Field Office received approximately 94 comments from comment forms, which were completed during one of the public open-house meetings, comment letters, or emails.

Each submission was carefully reviewed to identify substantive comments in accordance with regulations on the implementation of NEPA (40 CFR 1503.4). Comments received from the public were considered and incorporated upon internal BLM reviews as appropriate into the Proposed RMP/Final EIS. Public comments resulted in the addition of clarifying text, but did not significantly change the proposed land use plan decisions. Instructions for filing a protest with the Director of the BLM regarding the proposed plan may be found in the “Dear Reader Letter” of the Proposed RMP/Final EIS and at 43 CFR 1610.5-2. Emailed and faxed protests will not be accepted as valid protests unless the protesting party also provides the original letter by either regular or overnight mail postmarked by the close of the protest period. Under these conditions, the BLM will consider the emailed or faxed protest as an advance copy and it will receive full consideration. If you wish to provide the BLM with such advanced notification, please send protests to fax phone number (202) 912-7212, attention BLM Protest Coordinator Brenda Hudgens-Williams or email Brenda_Hudgens-Williams@blm.gov.

All protests, including the follow-up letter to emails or faxes, must be in writing and mailed to the appropriate address, as set forth in the ADDRESSES section above.

Before including your phone number, email address, or other personal identifying information in your protest, you should be aware that your entire protest—including your personal identifying information—may be made publicly available at any time. While you can ask us in your protest to withhold your personal identifying information from public review, we cannot guarantee that we will be able to do so.

Jesse Juen,
Acting State Director.

Authority: 40 CFR 1506.6; 40 CFR 1506.10; 43 CFR 1610.2; 43 CFR 1610.5-2.

[FR Doc. 2011-30929 Filed 12-1-11; 8:45 am]

BILLING CODE 4310-OW-P